DEPARTMENT OF HOMELAND SECURITY

Coast Guard

33 CFR Part 165

[Docket Number USCG-2025-1045]

RIN 1625-AA00

Safety Zone; Patapsco River, Baltimore, MD

AGENCY: Coast Guard, Department of Homeland Security.

ACTION: Temporary final rule.

SUMMARY: The Coast Guard is establishing a temporary safety zone for navigable waters within a 300 foot radius of a stationary barge in the Patapsco River, in Baltimore, MD. The safety zone is needed to protect personnel, vessels, and the marine environment from potential hazards created by a fireworks display. Entry of vessels or persons into this zone is prohibited unless specifically authorized by the Captain of the Port, Sector Maryland—National Capital Region.

DATES: This rule is effective December 13, 2025, from 9:30 p.m., until 10:30 p.m.

ADDRESSES: To view available documents go to https://www.regulations.gov and search for USCG-2025-1045.

FOR FURTHER INFORMATION CONTACT: If you have questions about this rule, contact MST2 Natasha Hand, Sector Maryland—National Capital Region (NCR) Waterways Management Division, U.S. Coast Guard; telephone 443-257-4011, or email D05-DG-SectorMD-NCR-Prevention-WWM@uscg.mil.

SUPPLEMENTARY INFORMATION:

I. Table of Abbreviations

CFR—Code of Federal Regulations

COTP—Captain of the Port, Sector Maryland—National Capital Region

DHS—Department of Homeland Security

FR—Federal Register

NPRM—Notice of proposed rulemaking

§—Section

U.S.C.—United States Code

II. Background and Authority

The Coast Guard has received notification that there will be a fireworks display launched from a barge on the Patapsco River, in Baltimore's Inner Harbor. Hazards from fireworks displays include the chance of accidental discharges of fireworks, and the chance that people and vessels in the vicinity of the barge might be hit by dangerous projectiles, falling hot embers, or other debris. The Captain of the Port, Sector Maryland—NCR (COTP) has determined that these potential hazards present a safety concern for people and vessels within a 300-foot radius of the fireworks discharge site. Therefore, the COTP is issuing this rule under the authority of 46 U.S.C. 70034 to protect personnel, vessels, and the marine environment in the navigable waters within the safety zone.

The Coast Guard is issuing this rule without prior notice and comment. As is authorized by 5 U.S.C. 553(b)(B), the Coast Guard finds for good cause that notice of proposed rulemaking (NPRM) and public procedure thereon are impracticable with respect to this rule because there is insufficient time to provide notice, accept comments, respond to comments, and publish a final rule by December 13, 2025, when it must be in place to protect personnel, vessels, and the marine environment.

The Coast Guard also finds there is insufficient time to delay the effective date for 30 days after publication in the Federal Register, as would normally be required under 5 U.S.C. 553(d). The Coast Guard has therefore determined, as provided under 5 U.S.C. 553(d)(3), that good cause exists for finding it is impracticable to delay the effective date of this rule for 30 days after publication in the Federal Register.

III. Discussion of the Rule

This rule establishes a safety zone from 9:30 p.m. until 10:30 p.m. on December 13, 2025. The safety zone will cover all navigable waters within 300-foot radius of the fireworks discharge site, a barge which will be located in the Patapsco River, in Baltimore's Inner Harbor. No vessel or person will be permitted to enter the safety zone without obtaining permission from the COTP or their designated representative.

IV. Regulatory Analyses

We developed this rule after considering numerous statutes and Executive orders related to rulemaking. Below we summarize our analyses based on a number of these statutes and Executive orders.

A. Impact on Small Entities

The regulatory flexibility analysis provisions of the Regulatory Flexibility Act of 1980, 5 U.S.C. 601-612, do not apply to rules that are not subject to notice and comment. Because the Coast Guard has, for good cause, waived the notice and comment requirement that would otherwise apply to this rulemaking, the Regulatory Flexibility Act's flexibility analysis provisions do not apply here.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247). The Coast Guard will not retaliate against small entities that question or complain about this rule or any policy or action of the Coast Guard.

B. Collection of Information

This rule will not call for a new collection of information under the Paperwork Reduction Act of 1995 (44 U.S.C. 3501-3520).

C. Federalism and Indian Tribal Governments

We have analyzed this rule under Executive Order 13132, Federalism, and have determined that it is consistent with the fundamental federalism principles and preemption requirements described in that Order.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this rule will not result in an annual expenditure of $100,000,000 or more (adjusted for inflation) by a State, local, or tribal government, in the aggregate, or by the private sector.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This rule is a safety zone. It is categorically excluded from further review under paragraph L60(a) of Appendix A, Table 1 of DHS Instruction Manual 023-01-001-01, Rev. 1.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; DHS Delegation No. 00170.1, Revision No. 01.4.

2. Add § 165.T05-1045 to read as follows:

§ 165.T05-1045 Safety Zone; Patapsco River, Baltimore, MD.

(a) Location. The following area is a temporary safety zone: All navigable waters within a 300 foot radius of a barge in the approximate location of 39°17′3.37″ N, 076°36′35.93″ W.

(b) Definitions. As used in this section, designated representative means a Coast Guard Patrol Commander, including a Coast Guard coxswain, petty officer, or other officer operating a Coast Guard vessel and a Federal, State, and local officer designated by or assisting the Captain of the Port, Sector Maryland—NCR (COTP) in the enforcement of the safety zone.

(c) Regulations. (1) Under the general safety zone regulations in subpart C of this part, you may not enter the safety zone described in paragraph (a) of this section unless authorized by the COTP or the COTP's designated representative. (2) To seek permission to enter, contact the COTP or the COTP's representative on VHF-FM channel 16 or by telephone, at (410) 576-2693. Those in the safety zone must comply with all lawful orders or directions given to them by the COTP or the COTP's designated representative.

(d) Enforcement period. This section will be enforced from 9:30 p.m. to 10:30 p.m. on December 13, 2025.

Dated: December 5, 2025.
Patrick C. Burkett,
Captain, U.S. Coast Guard, Captain of the Port, Sector Maryland—National Capital Region.

[FR Doc. 2025-22518 Filed 12-10-25; 8:45 am]

BILLING CODE 9110-04-P